DEPARTMENT OF HOMELAND SECURITY

U.S. Customs and Border Protection

[1651-0022]

Agency Information Collection Activities: Entry Summary

AGENCY: U.S. Customs and Border Protection, Department of Homeland Security.

ACTION: 60-Day Notice and request for comments; extension of an existing collection of information.

SUMMARY: U.S. Customs and Border Protection (CBP) of the Department of Homeland Security will be submitting the following information collection request to the Office of Management and Budget (OMB) for review and approval in accordance with the Paperwork Reduction Act: Entry Summary. CBP is proposing that this information collection be extended with no change to the burden hours or to the information collected. This document is published to obtain comments from the public and affected agencies.

DATES: Written comments should be received on or before June 23, 2014 to be assured of consideration.

ADDRESSES: Direct all written comments to U.S. Customs and Border Protection, Attn: Tracey Denning, Regulations and Rulings, Office of International Trade, 90 K Street NE., 10th Floor, Washington, DC 20229-1177.

FOR FURTHER INFORMATION CONTACT: Requests for additional information should be directed to Tracey Denning, U.S. Customs and Border Protection, Regulations and Rulings, Office of International Trade, 90 K Street, NE 10th Floor, Washington, DC 20229-1177, at 202-325-0265.

SUPPLEMENTARY INFORMATION: CBP invites the general public and other Federal agencies to comment on proposed and/or continuing information collections pursuant to the Paperwork Reduction Act of 1995 (Pub. L. 104-13; 44 U.S.C. 3507). The comments should address: (a) Whether the collection of information is necessary for the proper performance of the functions of the agency, including whether the information shall have practical utility; (b) the accuracy of the agency's estimates of the burden of the collection of information; (c) ways to enhance the quality, utility, and clarity of the information to be collected; (d) ways to minimize the burden including the use of automated collection techniques or the use of other forms of information technology; and (e) the annual costs burden to respondents or record keepers from the collection of information (a total capital/startup costs and operations and maintenance costs). The comments that are submitted will be summarized and included in the CBP request for OMB approval. All comments will become a matter of public record. In this document, CBP is soliciting comments concerning the following information collection:

Title: Entry Summary.

OMB Number: 1651-0022.

Form Number: 7501.

Abstract: CBP Form 7501, Entry Summary, is used to identify merchandise entering the commerce of the United States, and to document the amount of duty and/or tax paid. CBP Form 7501 is submitted by the importer, or the importer's agent, for each import transaction. The data on this form is used by CBP as a record of the import transaction; to collect the proper duty, taxes, certifications and enforcement information; and to provide data to the U.S. Census Bureau for statistical purposes. CBP Form 7501 must be filed within 10 working days from the time of entry of merchandise into the United States. Collection of the data on this form is authorized by 19 U.S.C. 1484 and provided for by 19 CFR 142.11 and CFR 141.61. CBP Form 7501 and accompanying instructions can be found at http://www.cbp.gov/xp/cgov/toolbox/forms/.

Current Actions: This submission is being made to extend the expiration date of this information collection with no change to the burden hours or to the information collected on Form 7501.

Type of Review: Extension (without change).

Affected Public: Businesses.

CBP Form 7501—Formal Entries.

Estimated Number of Respondents: 2,450.

Estimated Number of Responses per Respondent: 9,903.

Estimated Total Annual Responses: 24,262,980.

Estimated Time per Response: 20 minutes.

Estimated Total Annual Burden Hours: 8,079,572.

CBP Form 7501—Formal Entries With Softwood Lumber Agreement

Estimated Number of Respondents: 210.

Estimated Number of Responses per Respondent: 1905.

Estimated Total Annual Responses: 400,050.

Estimated Time per Response: 40 minutes.

Estimated Total Annual Burden Hours: 266,433.

CBP Form 7501—Informal Entries

Estimated Number of Respondents: 1,572.

Estimated Number of Responses per Respondent: 2,582.

Estimated Total Annual Responses: 4,059,355.

Estimated Time per Response: 15 minutes.

Estimated Total Annual Burden Hours: 1,014,839.

CBP Form 7501A—Document/Payment Transmittal

Estimated Number of Respondents: 20.

Estimated Number of Responses per Respondent: 60.

Estimated Total Annual Responses: 1,200.

Estimated Time per Response: 15 minutes.

Estimated Total Annual Burden Hours: 300.

Dated: April 17, 2014.
Tracey Denning,
Agency Clearance Officer, U.S. Customs and Border Protection.

[FR Doc. 2014-09167 Filed 4-21-14; 8:45 am]

BILLING CODE 9111-14-P